DEPARTMENT OF TRANSPORTATION

14 CFR Chapters I Through III

23 CFR Chapters I Through III

33 CFR Chapter IV

46 CFR Chapter II

48 CFR Chapter 12

49 CFR Subtitle A and Subtitle B, Chapters I Through III and V and VI

[Docket No. DOT-OST-2025-0026]

Ensuring Lawful Regulation; Reducing Regulation and Controlling Regulatory Costs

AGENCY: Office of the Secretary, Department of Transportation.

ACTION: Request for information (RFI).

SUMMARY: As part of its implementation of Executive orders issued by the President, including Executive Order 14219, “Ensuring Lawful Governance and Implementation of the President's ‘Department of Government Efficiency’ Deregulatory Agenda,” issued on February 19, 2025, and Executive Order 14192, “Unleashing Prosperity through Deregulation,” issued on January 31, 2025, the Department of Transportation (DOT) seeks comments and information to assist DOT in identifying existing regulations, guidance, paperwork requirements, and other regulatory obligations that can be modified or repealed, consistent with law, to ensure that DOT administrative actions do not undermine the national interest and that DOT achieves meaningful burden reduction while continuing to meet statutory obligations and ensure the safety of the U.S. transportation system.

DATES: Written comments and information are requested on or before May 5, 2025.

ADDRESSES: Interested persons are encouraged to submit comments, identified by “Regulatory Reform RFI,” by any of the following methods:

Federal eRulemaking Portal: https://www.regulations.gov. Follow the instructions for submitting comments.

Email: Transportation.RegulatoryInfo@dot.gov. Include “Regulatory Reform RFI” in the subject line of the message.

Mail: U.S. Department of Transportation, Office of the General Counsel, 1200 New Jersey Ave. SE, Washington, DC 20590.

All comments received will be posted without change to https://www.regulations.gov, including any personal information provided.

Electronic Access and Filing

This document and all comments received may be viewed online through the Federal eRulemaking portal at https://www.regulations.gov using the docket number listed above. Electronic retrieval help and guidelines are also available at https://www.regulations.gov. An electronic copy of this document may also be downloaded from the Office of the Federal Register's website at www.FederalRegister.gov and the U.S. Government Publishing Office's website at www.GovInfo.gov. All comments received before the close of business on the comment closing date indicated above will be considered and will be available for examination in the docket at the above address. Comments received after the comment closing date will be filed in the docket and will be considered to the extent practicable.

FOR FURTHER INFORMATION CONTACT: Daniel Cohen, U.S. Department of Transportation, Office of the General Counsel, 1200 New Jersey Ave. SE, Washington, DC 20590. Telephone: (202) 366-4702. Email: Transportation.RegulatoryInfo@dot.gov.

SUPPLEMENTARY INFORMATION: On February 19, 2025, the President issued Executive Order 14219, “Ensuring Lawful Regulation and Implementing the President's ‘Department of Government Efficiency’ Deregulatory Agenda” (90 FR 10583; February 25, 2025). That order stated the policy of the Administration is to focus the executive branch's limited enforcement resources on regulations squarely authorized by constitutional Federal statutes and commence the deconstruction of the overbearing and burdensome administrative state. Pursuant to the order, agencies are required to identify and report to the Office of Information and Regulatory Affairs (OIRA) within the Office of Management and Budget on regulations in one or more of the following categories:

(i) Unconstitutional regulations and regulations that raise serious constitutional difficulties, such as exceeding the scope of the power vested in the Federal Government by the Constitution;

(ii) Regulations that are based on unlawful delegations of legislative power;

(iii) Regulations that are based on anything other than the best reading of the underlying statutory authority or prohibition;

(iv) Regulations that implicate matters of social, political, or economic significance that are not authorized by clear statutory authority;

(v) Regulations that impose significant costs upon private parties that are not outweighed by public benefits;

(vi) Regulations that harm the national interest by significantly and unjustifiably impeding technological innovation, infrastructure development, disaster response, inflation reduction, research and development, economic development, energy production, land use, and foreign policy objectives; and (vii) regulations that impose undue burdens on small business and impede private enterprise and entrepreneurship.

After receiving this report, OIRA is instructed to consult with agency heads to develop a Unified Regulatory Agenda to rescind or modify identified regulations as appropriate and consider these factors when evaluating potential new regulations. On January 31, 2025, the President issued Executive Order 14192, “Unleashing Prosperity Through Deregulation” (90 FR 9065; Feb. 6, 2025). The order states the policy of the executive branch is to be prudent and financially responsible in the expenditure of funds, from both public and private sources, and to alleviate unnecessary regulatory burdens placed on the American people. Toward that end, E.O. 14192 requires that:

(a) Unless prohibited by law, whenever an agency proposes for notice and comment or otherwise promulgates a new regulation, it shall identify at least 10 existing regulations to be repealed.

(b) For fiscal year 2025, all agencies must ensure that the total incremental cost of all new regulations, including repealed regulations, being finalized is significantly less than zero, as determined by the Director of the Office of Management and Budget (OMB), unless otherwise required by law or instructions from OMB.

(c) Any new incremental costs associated with new regulations must, to the extent permitted by law, be offset by the elimination of existing costs associated with at least 10 prior regulations.

Further, Executive Order 14192 requires that for fiscal year 2026, and each fiscal year thereafter, the head of each agency identify, on an aggregated basis, for regulations that increase incremental cost, offsetting regulations and provide the agency's best approximation of the total costs or savings associated with each new regulation or repealed regulation. During the Presidential budget process, the Director of the Office of Management and Budget will identify for each agency a total amount of incremental costs that will be allowed for such agency in issuing new regulations and repealing regulations for each fiscal year after fiscal year 2025. No regulations exceeding the agency's total incremental cost allowance will be permitted in that fiscal year, unless required by law or approved in writing by the Director. The total incremental cost allowance may allow an increase or require a reduction in total regulatory cost.

To implement these Executive orders, DOT is taking two immediate steps. First, as described further below, DOT is issuing this RFI seeking public comment on how best to ensure lawful regulation and to achieve meaningful burden reduction while continuing to achieve DOT's legal obligations, safety mission, and regulatory objectives. Second, DOT has created an email in-box at Transportation.RegulatoryInfo@dot.gov, which interested parties can use to identify to DOT—on a continuing basis—existing regulations, guidance, reporting requirements, and other regulatory obligations that they believe can be modified or repealed, consistent with law. Any comments received will be placed in the docket for this RFI on https://regulations.gov. Together, these steps will help DOT ensure it acts in a lawful, prudent, and financially responsible manner in the expenditure of funds, from both public and private sources, and manages appropriately the costs associated with private expenditures required for compliance with DOT regulations.

Request for Information

Pursuant to the Executive orders described herein, DOT is, through this RFI, seeking input, as permitted by law, from the public, particularly entities significantly affected by administrative actions of DOT, including State, local, and tribal governments; small businesses; consumers; non-governmental organizations; transportation system operators and service providers; and manufacturers and their trade associations. DOT's goal is to create a systematic method for identifying those existing DOT regulations, guidance, or reporting requirements that are inconsistent with law or Administration policy, including regulations, guidance, or reporting requirements that are obsolete, unnecessary, unjustified, or simply no longer make sense. Consistent with DOT's commitment to public participation in the rulemaking process, DOT is beginning this process by soliciting views from the public on how best to conduct its analysis of existing DOT regulations, guidance, or reporting requirements. It is also seeking views from the public on specific regulations, guidance, or reporting requirements or DOT-imposed obligations that should be altered or eliminated. Because knowledge about the full effects of a regulation, guidance, or reporting requirement is widely dispersed in society, members of the public are likely to have useful information and perspectives on the benefits and burdens of existing requirements and how regulatory obligations may be updated, streamlined, revised, or repealed to better achieve regulatory objectives, while minimizing regulatory burdens, consistent with applicable law. Interested parties may also be well-positioned to identify those regulations, guidance, or reporting requirements that are most in need of reform, and, thus, assist DOT in prioritizing and properly tailoring its review process. In short, engaging the public in an open, transparent process is a crucial first step in DOT's review of its existing regulations, guidance, or reporting requirements.

DOT also seeks comments on DOT regulations, guidance, or reporting requirements that may be inconsistent with Executive Order 14151, “Ending Radical and Wasteful Government DEI Programs and Preferencing” (90 FR 8339; Jan. 29, 2025); Executive Order 14154, “Unleashing American Energy” (90 FR 8353; Jan. 29, 2025); Executive Order 14168, “Defending Women from Gender Ideology Extremism and Restoring Biological Truth to the Federal Government” (90 FR 8615; Jan. 30, 2025); Executive Order 14213, “Establishing the National Energy Dominance Council” (90 FR 9945; Feb. 20, 2025); and other Executive orders issued by the President.

List of Questions for Commenters

To allow DOT to evaluate suggestions more effectively, DOT is requesting that commenter provide, to the extent possible:

• Supporting data or other information such as cost information; and

• Specific suggestions regarding repeal, replacement, or modification.

The following list of questions represents an initial step by DOT to identify regulations, guidance, or reporting requirements on which it should immediately focus.¹ This non-exhaustive list is meant to assist in the formulation of comments and is not intended to restrict the issues that may be addressed. In addressing these questions or others, DOT requests that commenters identify with specificity the regulation, guidance, or reporting requirement at issue, providing legal citations where available. DOT also requests that the submitter provide, in as much detail as possible, an explanation of why a regulation, guidance, or reporting requirement should be modified, streamlined, or repealed, as well as specific suggestions of ways DOT can do so while achieving its regulatory objectives. Submitters are encouraged to provide economic data to demonstrate the cost of complying with existing regulations, guidance, or reporting requirements, as well as the savings that a change to the rule, guidance, or reporting requirement might provide.

¹ The Department recognizes that commenters may have already submitted similar comments to the Federal Motor Carrier Safety Administration (FMCSA) in Docket No. FMCSA-2024-0208 (regarding FMCSA's comprehensive review of its guidance pursuant to section 5203 of the Fixing America's Surface Transportation Act). To the extent that there are comments on which FMCSA should immediately focus, in light of the Executive orders addressed by this RFI, please highlight those in your comments to this document.

(1) Are there any regulations or guidance commenters can identify that fall within the seven categories outlined in Executive Order 14219? If so, how does any particular regulation or guidance fall within one or more of those categories? Would repeal or modification (and if so, please describe what modification) advance the policies of the order, consistent with law?

(2) How can DOT best promote meaningful regulatory cost reduction while achieving its regulatory objectives, and how can it best identify those regulations, guidance, or reporting requirements that might be modified, streamlined, or repealed?

(3) How can DOT best obtain and consider accurate, objective information and data about the costs, burdens, and benefits of existing regulations, guidance, and reporting requirements? Are there existing sources of data DOT can use to evaluate the post-promulgation effects of regulations, guidance, or reporting requirements over time? DOT invites interested parties to provide data that may be in their possession that documents the costs, burdens, and benefits of existing requirements.

(4) Are there regulations, guidance, or reporting requirements that simply make no sense or have become unnecessary, ineffective, or ill-advised? If so, please identify them. Are there regulations, guidance, or reporting requirements that can be repealed without impairing DOT's ability to comply with its statutory obligations? If so, please identify them.

(5) Are there regulations, guidance, or reporting requirements that have become outdated and, if so, how can they be modernized to better accomplish their objectives?

(6) Are there regulations, guidance, or reporting requirements that are still necessary, but have not operated as well as expected such that a modified, or slightly different approach at lower cost is justified?

(7) Are there regulations, guidance, or reporting requirements that unnecessarily obstruct, delay, curtail, or otherwise impose significant costs on the siting, permitting, or delivery of transportation projects?

(8) Does DOT currently collect information that it does not need or use effectively?

(9) Are there regulations, guidance, or reporting requirements, or regulatory processes that are unnecessarily complicated or could be streamlined to achieve statutory obligations in more efficient ways? If so, what changes should be made?

(10) Are there regulations, guidance, or reporting requirements that have been overtaken by technological developments? Can new technologies be leveraged to modify, streamline, or rescind existing regulations, guidance, or reporting requirements?

(11) Does the methodology and data used in analyses supporting DOT's regulations meet the requirements of the Information Quality Act?

(12) Are there any DOT regulations, guidance, or reporting requirements that are inconsistent with Executive Orders 14151, 14154, 14168, 14213, and other Executive orders issued by the President, described earlier in this RFI? If so, what modifications would ensure consistency with the orders and applicable law?

DOT notes that this RFI is issued solely for information and program-planning purposes. While responses to this RFI do not bind DOT to any further actions related to the response, all submissions will be made publicly available on https://www.regulations.gov.

Issued in Washington, DC, on March 27, 2025.
Gregory D. Cote,
Acting General Counsel, United States Department of Transportation.

[FR Doc. 2025-05557 Filed 4-2-25; 8:45 am]

BILLING CODE 4910-57-P